FEDERAL COMMUNICATIONS COMMISSION

47 CFR Part 73

[DA 05-1150; MB Docket No. 04-329, RM-11050; MB Docket No. 04-332, RM-11054; MB Docket No. 04-333, RM-11055; MB Docket No. 04-334, RM-11056; MB Docket No. 04-335, RM-11057; MB Docket No. 04-336, RM-11058; MB Docket No. 04-337, RM-11059]

Radio Broadcasting Services; Cambria, CA; Carbon, TX; Coachella, CA; Dulac, LA; Fallon Station, NV; King City, CA; and Northport, AL

AGENCY: Federal Communications Commission.

ACTION: Final rule.

SUMMARY: In response to a multi-docket Notice of Proposed Rulemaking, 69 FR 54614 (September 9, 2004), this Report and Order allots new FM channels in seven different communities, including Cambria, California; Carbon, Texas; Coachella, California; Dulac, Louisiana; Fallon Station, Nevada; King City, California; and Northport, Alabama. The Audio Division, at the request of SSR Communications, Inc., allots Channel 242A at Dulac, Louisiana, as the community's first local aural transmission service. Channel 242A can be allotted to Dulac in compliance with the Commission's minimum distance separation requirements with a site restriction of 6.0 kilometers (3.7 miles) southwest of Dulac. The reference coordinates for Channel 242A at Dulac are 29-21-09 North Latitude and 90-45-36 West Longitude. See SUPPLEMENTARY INFORMATION, infra.

DATES: Effective June 13, 2005. The window period for filing applications for these allotments will not be opened at this time. Instead, the issue of opening these allotments for auction will be addressed by the Commission in a subsequent order.

ADDRESSES: Federal Communications Commission, 445 Twelfth Street, SW., Washington, DC 20554.

FOR FURTHER INFORMATION CONTACT: R. Barthen Gorman, Media Bureau, (202) 418-2180.

SUPPLEMENTARY INFORMATION: This is a synopsis of the Commission's Report and Order, MB Docket Nos. 04-329, 04-332, 04-333, 04-334, 04-335, 04-336, and 04-337, adopted April 25, 2005, and released April 27, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

The Audio Division, at the request of Daniel R. Feely, allots Channel 275A at King City, California, as the community's fourth local aural transmission service. Channel 275A can be allotted to King City in compliance with the Commission's minimum distance separation requirements with a site restriction of 0.3 kilometers (0.2 miles) southwest of King City. The reference coordinates for Channel 275A at King City are 36-12-40 North Latitude and 121-07-40 West Longitude.

The Audio Division, at the request of Linda A. Davison, allots Channel 287C at Fallon Station, Nevada, as the community's first local aural transmission service. Channel 287C can be allotted to Fallon Station in compliance with the Commission's minimum distance separation requirements with a site restriction of 20.1 kilometers (12.5 miles) north of Fallon Station. The reference coordinates for Channel 287C at Fallon Station are 39-36-00 North Latitude and 118-43-12 West Longitude.

The Audio Division, at the request of Dana J. Puopolo, allots Channel 278A at Coachella, California, as the community's third local aural transmission service. Channel 278A can be allotted to Coachella in compliance with the Commission's minimum distance separation requirements at the city reference coordinates, and therefore this allotment requires no site restrictions. The reference coordinates for Channel 278 at Coachella are 33-40-49 North Latitude and 116-10-23 West Longitude. The Mexican government has concurred with this allotment.

The Audio Division, at the request of Linda A. Davidson, allots Channel 293A at Cambria, California, as the community's fourth local aural transmission service. Channel 293A can be allotted to Cambria in compliance with the Commission's minimum distance separation requirements with a site restriction of 5.4 kilometers (3.4 miles) north of Cambria. The reference coordinates for Channel 293A at Cambria are 35-36-36 North Latitude and 121-06-00 West Longitude.

The Audio Division, at the request of Charles Crawford, allots Channel 238A at Carbon, Texas, as the community's first local aural transmission service. Channel 238A can be allotted to Carbon in compliance with the Commission's minimum distance separation requirements at the city's reference coordinates and therefore this allotment requires no site restrictions. The reference coordinates for Channel 238A at Carbon are 32-16-14 North Latitude and 98-49-42 West Longitude.

The Audio Division, at the request of TTI, Inc., allots Channel 286A at Northport, as the community's second local aural transmission service, with a site restriction of 8.6 kilometers (5.4 miles) southwest of Northport. The reference coordinates for Channel 286A are 33-11-02 North Latitude and 87-39-10 West Longitude.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Alabama, is amended by adding Channel 286A at Northport.

3. Section 73.202(b), the Table of FM Allotments under California, is amended by adding Channel 293A at Cambria, Channel 278A at Coachella, and Channel 275A at King City.

4. Section 73.202(b), the Table of FM Allotments under Louisiana, is amended by adding Dulac, Channel 242A.

5. Section 73.202(b), the Table of FM Allotments under Nevada, is amended by adding Fallon Station, Channel 287C.

6. Section 73.202(b), the Table of FM Allotments under Texas, is amended by adding Carbon, Channel 238A.

Federal Communications Commission.
John A. Karousos,
Assistant Chief, Audio Division, Media Bureau.

[FR Doc. 05-9813 Filed 5-17-05; 8:45 am]

BILLING CODE 6712-01-P